DEPARTMENT OF COMMERCE

National Oceanic and Atmospheric Administration

[I.D. 081804D]

North Pacific Fishery Management Council; Public Meeting

AGENCY: National Marine Fisheries Service (NMFS), National Oceanic and Atmospheric Administration (NOAA), Commerce.

ACTION: Notice of a public meeting.

SUMMARY: The North Pacific Fishery Management Council's (Council) Non-Target Species Committee will meet in Seattle, WA.

DATES: The meeting will be held on Wednesday, September 15, 2004, from 9 a.m. to 12 noon (PST).

ADDRESSES: The meeting will be held at the Alaska Fishery Science Center (AFSC), 7600 Sand Point Way North East, Building 4, Room 2143, Seattle, WA 98115.

Council address: North Pacific Fishery Management Council, 605 W. 4th Avenue, Suite 306, Anchorage, AK 99501-2252.

FOR FURTHER INFORMATION CONTACT: Jane DiCosimo, Council staff, telephone: 907-271-2809.

SUPPLEMENTARY INFORMATION: The committee will review the ad hoc group problem statement and suite of alternatives, review draft committee problem statement and suite of alternatives, receive updates on any potential fishery issues for 2005, receive update on Council request for a discussion paper on alternative management strategies for rockfish.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at 907-2712809 at least 7 working days prior to the meeting date.

Dated: August 27, 2004.
Alan D. Risenhoover,
Acting Director, Office of Sustainable Fisheries, National Marine Fisheries Service.

[FR Doc. E4-2033 Filed 9-1-04; 8:45 am]

BILLING CODE 3510-22-S